DEPARTMENT OF COMMERCE

National Oceanic and Atmospheric Administration

50 CFR Part 660

[Docket No. 220510-0113]

RTID 0648-XC370

Fisheries Off West Coast States; Modification of the West Coast Salmon Fisheries; Inseason Actions #37 Through #45

AGENCY: National Marine Fisheries Service (NMFS), National Oceanic and Atmospheric Administration (NOAA), Commerce.

ACTION: Inseason modification of 2022 management measures.

SUMMARY: NMFS announces nine inseason actions in the 2022 ocean salmon fisheries. These inseason actions modify the recreational and commercial salmon fisheries in the area from the U.S./Canada border to the Oregon/California border.

DATES: The effective dates for the inseason actions are set out in this document under the heading Inseason Actions and the actions remain in effect until superseded or modified.

FOR FURTHER INFORMATION CONTACT: Shannon Penna at 562-980-4239, Email: Shannon.Penna@noaa.gov.

SUPPLEMENTARY INFORMATION:

Background

The 2022 annual management measures for ocean salmon fisheries (87 FR 29690, May 16, 2022), announced management measures for the commercial and recreational fisheries in the area from the U.S./Canada border to the U.S./Mexico border, effective from 0001 hours Pacific Daylight Time (PDT), May 16, 2022, until the effective date of the 2023 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial and recreational salmon fisheries, as set out under the heading Inseason Action below.

Consultations with the Council Chairperson on these inseason actions occurred on August 17, 2022, August 22, 2022, August 25, 2022, and August 30, 2022. Representatives from NMFS, Washington Department of Fish and Wildlife (WDFW), Oregon Department of Fish and Wildlife (ODFW), California Department of Fish and Wildlife (CDFW) and Council staff participated in these consultations. Members of the Salmon Advisory Subpanel and Salmon Technical Team (STT) were also present on the calls.

These inseason actions were announced on NMFS' telephone hotline and U.S. Coast Guard radio broadcast on the date of the consultations (50 CFR 660.411(a)(2)).

Inseason Actions

Inseason Action #37

Description of the action: Inseason action #37 modifies the landing and possession limit for the commercial salmon troll fishery across the entire NOF area, regardless of subarea, to: 10 Chinook salmon per vessel per landing week (Thursday through Wednesday).

Effective date: Inseason action #37 took effect on August 18, 2022, and remains in effect until superseded.

Reason and authorization for the action: Inseason action #37 was necessary to slow the rate of Chinook salmon catch in order to preserve the length of the salmon fishing season by setting a lower landing and possession limit. The West Coast Regional Administrator (RA) considered the landings of Chinook salmon to date and projected catch, fishery effort occurring to date and projected effort, and quotas set preseason and determined that this inseason action was necessary to provide greater fishing opportunity and provide economic benefit to the fishery-dependent community by preserving season length. The modification of commercial landing and possession limits is authorized by 50 CFR 660.409(b)(1)(i).

Inseason Action #38

Description of the action: Inseason action #38 modifies the recreational fishery from the Queets River to Leadbetter Point (Westport Subarea). Possession of Chinook salmon is illegal on days when retention of Chinook salmon is prohibited in that same area.

Effective date: Inseason action #38 took effect on August 18, 2022 at 12:01 a.m., and remains in effect until superseded.

Reason and authorization for the action: Inseason action #38 was necessary to not exceed the Chinook salmon guideline due to high Chinook salmon catch and preserve the length of the season while continuing to allow access to coho salmon. The RA considered landings of Chinook and coho salmon to date and projected catches, fishery effort occurring to date and projected effort, quotas and guidelines set preseason, and the recreational Chinook salmon guideline remaining. The RA determined that this inseason action was necessary to preserve the available recreational Chinook salmon guideline in the Westport subarea in order to meet management goals set preseason, including access to coho salmon. Modification of recreational bag limits is authorized by 50 CFR 660.409(b)(1)(iii).

Inseason Action #39

Description of the action: Inseason action #39 modifies the recreational fishery from the Queets River to Leadbetter Point (Westport Subarea), Chinook salmon retention is prohibited.

Effective date: Inseason action #39 took effect on August 23, 2022 at 12:01 a.m., and remains in effect until superseded.

Reason and authorization for the action: Due to high Chinook salmon catch, this inseason action was necessary to not exceed the Chinook salmon guideline and preserve the length of the season while continuing to allow access to coho salmon. The RA considered landings of Chinook and coho salmon to date and projected catch, fishery effort occurring to date and projected effort, and quotas set preseason and determined that this inseason action was necessary to preserve the available recreational Chinook salmon guideline in the Westport subarea in order to meet management goals set preseason, including access to coho salmon. Modifications of recreational bag limits is authorized by 50 CFR 660.409(b)(1)(iii).

Inseason Action #40

Description of the action: Inseason action #40 modifies the recreational fishery from Leadbetter Point to Cape Falcon, OR (Columbia River subarea), Chinook salmon retention is prohibited, and the portion of the subarea North of 46°15′ N and East of 124°08′40″ W is open to fishing for salmon.

Effective date: Inseason action #40 took effect on August 23, 2022 at 12:01 a.m., and remains in effect until superseded.

Reason and authorization for the action: Inseason action #40 was necessary to preserve the length of the season by avoiding exceedance of the Chinook salmon guideline while maximizing catch of the available coho salmon quota. Leadbetter Point to Cape Falcon, OR (Columbia River subarea) opened with a coho salmon quota of 84,000 and a Chinook salmon guideline of 7,700. Through August 21, 2022, 37,405 coho salmon (45 percent of the subarea quota) and 6,902 Chinook salmon (90 percent of the subarea guideline) had been caught in the Columbia River subarea. The RA considered landings of Chinook and coho salmon to date and projected catch, fishery effort occurring to date and projected effort, and quotas set preseason and determined that this inseason action was necessary to preserve the available recreational Chinook salmon guideline in the Columbia River subarea in order to meet management goals set preseason including access to coho salmon. Modification of recreational bag limits is authorized by 50 CFR 660.409(b)(1)(iii).

Inseason Action #41

Description of the action: Inseason action #41 modifies the commercial salmon troll fishery NOF, the remaining coho salmon quota is adjusted on an impact-neutral basis, from mark-selective to non-mark-selective. The adjusted non-mark-selective coho salmon quota is 9,700.

Effective date: Inseason action #41 took effect on August 26, 2022 at 12:01 a.m., and remains in effect until the end of the commercial salmon season on September 30, 2022 at 11:59 p.m.

Reason and authorization for the action: Inseason action #41 was necessary to allow for increased access to the coho salmon quota, which had not been fully used, while not exceeding the impact limits for protected Chinook salmon stocks. The annual management measures (87 FR 29690, May 16, 2022) provide for inseason action to modify the regulations that restrict retention of un-marked coho salmon while still achieving management objectives, including not exceeding allowable impacts on constraining Chinook and coho salmon stocks. The STT calculated the necessary adjustments to the coho salmon quota on an impact-neutral basis for the constraining stocks in the NOF area. The RA considered coho salmon landings to date and projected catch, fishery effort occurring to date and projected effort, and quotas set preseason and determined that this inseason action was necessary to provide greater fishing opportunity and provide economic benefit to the fishery-dependent community. Modification of quotas and/or fishing seasons is authorized by 50 CFR 660.409(b)(1)(i).

Inseason Action #42

Description of the action: Inseason action #42 modifies the commercial salmon troll fishery NOF, landing and possession limit for coho salmon is modified to 150 non-mark-selective coho salmon per vessel per landing week (Thursday through Wednesday). Weekly landing and possession limit for Chinook salmon remains 10 Chinook salmon per vessel per landing week.

Effective Date: Inseason action #42 took effect on August 26, 2022 at 12:01 a.m., and remains in effect until superseded.

Reason and authorization for the action: Inseason action #42 modified the coho salmon landing and possession limit from 150 mark-selective coho salmon to 150 non-mark-selective coho salmon per vessel per landing week. This change was necessary to avoid exceedance of the Chinook salmon guideline and maximize catch of the available coho salmon quota. The RA considered coho and Chinook salmon landings to date and projected catch, fishery effort occurring to date and projected effort, and quotas set preseason and determined that this inseason action was necessary to provide greater fishing opportunity and provide economic benefit to the fishery-dependent community. Modification of quotas and/or fishing seasons is authorized by 50 CFR 660.409(b)(1)(i).

Inseason Action #43

Description of the action: Inseason action #43 modifies the recreational salmon fishery from the Queets River to Leadbetter Point (Westport subarea), the remaining coho salmon quota is adjusted on an impact-neutral basis, from mark-selective to non-mark-selective. The adjusted non-mark-selective coho salmon quota is 14,000.

Effective date: Inseason action #43 took effect on August 27, 2022 at 12:01 a.m., and remains in effect until the end of the recreational salmon season on September 30, 2022 at 11:59 p.m.

Reason and authorization for the action: Inseason action #43 was necessary to allow for increased access to the coho salmon quota, which had not been fully used, while not exceeding the impact limits for protected Chinook salmon stocks. The annual management measures (87 FR 29690, May 16, 2022) provide for inseason action to modify the regulations that restrict retention of un-marked coho salmon fishery while still achieving management objectives, including not exceeding allowable impacts on constraining Chinook and coho salmon stocks. The STT calculated the necessary adjustments to the coho salmon quota on an impact-neutral basis for the constraining stocks in the NOF area.

The RA considered coho and Chinook salmon landings to date and projected catch, fishery effort occurring to date and projected effort, and quotas set preseason and determined that this inseason action was necessary to provide greater fishing opportunity and provide economic benefit to the fishery-dependent community. Modification of quotas and/or fishing seasons is authorized by 50 CFR 660.409(b)(1)(i).

Inseason Action #44

Description of the action: Inseason action #44 modifies the recreational fishery from the Queets River to Leadbetter Point (Westport subarea), the daily limit is modified to 2 salmon per day, Chinook salmon retention prohibited.

Effective date: Inseason action #44 took effect on August 27, 2022 at 12:01 a.m., and remains in effect until superseded.

Reason and authorization for the action: Inseason action #44 was necessary to reduce Chinook salmon catch to preserve the length of the season while avoiding exceedance of the Chinook salmon guideline for this area and maximizing catch of the available coho salmon quota.

The RA considered the landings of Chinook and coho salmon to date and projected catches in the recreational salmon fishery, fishery effort occurring to date and projected effort, quotas and guidelines set preseason, and the recreational Chinook salmon guideline remaining. The RA determined that this inseason action was necessary to preserve the available recreational Chinook salmon guideline in the Westport subarea in order to meet management goals set preseason. The modification of recreational fishing bag limits is authorized by 50 CFR 660.409(b)(1)(iii).

Inseason Action #45

Description of the action: Inseason action #45 modifies the SOF recreational salmon fishery from Cape Falcon, OR to Humbug Mountain, OR. This action increased the non-mark selective coho salmon quota in the September 3 through September 30, 2022 recreational fishery from 17,000 to 26,800 through an impact-neutral rollover of unused quota from the June-August mark selective coho salmon recreational fishery in the area from Cape Falcon, OR to the Oregon/California border.

Effective date: Inseason action #45 took effect on September 3, 2022 at 12:01 a.m., and remains in effect until the end of the recreational salmon season on September 30, 2022 at 11:59 p.m.

Reason and authorization for the action: Authority for this impact-neutral rollover of unutilized quota is specified in the 2022 ocean salmon regulations (87 FR 29690, May 16, 2022). The SOF June-August mark selective coho salmon recreational fishery had a quota of 100,000 marked coho salmon. Of that quota, 42,814 coho salmon were landed, leaving 57,186 coho salmon quota unutilized for the June-August period. The STT calculated that an impact-neutral rollover would add 9,800 coho salmon from the June-August period to the September non-selective coho salmon fishery quota of 17,000 for an adjusted quota of 26,800 coho salmon. This action did not increase the overall 2022 coho salmon quota in the SOF recreational fishery. The RA considered the landings of coho salmon to date, fishery catch and effort to date, the amount of quota remaining, and the timing of the action relative to the length of the season, and determined that this inseason action was necessary to meet management goals set preseason. Modification of quotas and/or fishing seasons is authorized by 50 CFR 660.409(b)(1)(i).

All other restrictions and regulations remain in effect as announced for the 2022 ocean salmon fisheries (87 FR 29690, May 16, 2022), as modified by previous inseason action (87 FR 41260, July 12, 2022; 87 FR 49534, August 11, 2022; 87 FR 52353, August 25, 2022; 87 FR 54171, September 9, 2022).

The RA determined that these inseason actions were warranted based on the best available information on Pacific salmon abundance forecasts, landings to date, anticipated fishery effort and projected catch, and the other factors and considerations set forth in 50 CFR 660.409. The states and tribes manage the fisheries in state waters adjacent to the areas of the U.S. exclusive economic zone (3-200 nautical miles; 5.6-370.4 kilometers) off the coasts of the states of Washington, Oregon, and California) consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (87 FR 29690, May 16, 2022), the Pacific Salmon Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: September 28, 2022.
Jennifer M. Wallace,
Acting Director, Office of Sustainable Fisheries, National Marine Fisheries Service.

[FR Doc. 2022-21440 Filed 10-3-22; 8:45 am]

BILLING CODE 3510-22-P